OFFICE OF MANAGEMENT AND BUDGET

Office of Federal Financial Management; Consolidated Federal Financial Report

AGENCY: Office of Federal Financial Management (OFFM), Office of Management and budget (OMB).

ACTION: Notice of proposed consolidated Federal Financial Report.

SUMMARY: The Office of Federal Financial Management proposes to consolidate several existing financial reporting forms into a single financial report to be used by the Federal agencies and grant recipients. The purpose of this consolidated Federal Financial Report is to provide grant recipients with a standard format and consistent reporting requirements to be used for reporting financial information on formula and discretionary grants and cooperative agreements. The Federal awarding agencies jointly developed this format as one part of the implementation of the Federal Financial Assistance management Improvement Act of 1999 (Pub. L. 106-107).

DATES: All comments on this proposals should be in writing, and must be received by June 9, 2003.

ADDRESSES: Due to potential delays in OMB's receipt and processing of mail sent through the U.S. Postal Service, we encourage respondents to submit comments electronically to ensure timely receipt. We cannot guarantee that comments mailed will be received before the comment closing date.

Electronic mail comments may be submitted to: ghatch@omb.eop.gov. Please include “Consolidated Federal Financial Report” in the subject line and the full body of your comments in the text of the electronic message and as an attachment. Please include your name, title, organization postal address telephone number and E-mail address in the text of the message. Comments may also be submitted via facsimile to 202 395-3952. Comments may be mailed to Garrett Hatch, Office of Federal Financial Management, Office of Management and budget, Room 6025, New Executive Office Building, Washington, DC 20503.

FOR FURTHER INFORMATION CONTACT: Garrett hatch, Office of Federal Financial Management, Office of management and budget, telephone 202-395-0786, and E-mail: ghatch@omb.eop.gov.

SUPPLEMENTARY INFORMATION: This notice addresses issues raised during the public consultation process mandated by Public Law 106-107. Many areas of financial reporting were identified as being in need for improvement and streamlining. Commenters suggested the use of a single form, consistency in reporting frequency and requirements elimination of duplicate information, and electronic submission of reports.

The Financial Status Report (SF 269 and 269a) and the Federal Cash Transaction Report (SF 272 and 272a) were reviewed and analyzed to determine the data elements common to multiple forms and the data elements unique to any single form. Consolidation of these forms in intended to reduce the reporting burden placed on award recipients and to streamline the data collection process.

In addition to the consolidated set of data elements, four new data elements were added:

(1) Reporting entity's universal identifier (see proposal to use the Duns Universal Numbering System (DUNS) in the October 30, 2002, Federal Register, Vol 67, No. 210, pp. 66177-66178);

(2) Total recipient share required;

(3) Remaining recipient share to be provided; and

(4) Reporting entity's e-mail address.

This information was combined and resulted in four standard sections for reporting transactions and balances. The standard sections include: Status of Federal Cash, Status of Federal Expenditures and Unobliged Balance (of Federal funds), Status of Recipient Share, and Program Income.

Federal agencies will not be required to collect all of the information included on the proposed form. The Federal agency will identify the sections that must be completed by recipients and the frequency of report submission. We have allowed for flexibility in the frequency of reporting but have established a uniform due date of no later than 30 days after of each specified reporting period.

The immediate use of this proposed form would be in a paper format. However, the data elements included in the paper format are intended to be used in the future for the electronic submission and collection of financial information.

We welcome your input on any aspect of the Federal Financial Report. Questions that you may wish to address include:

Is the format of the form easy to understand and complete? Do you have suggestions for improvements in the appearance of the form? Are the line item instructions understandable? have we sufficiently defined the terms? Are there any data elements that could be eliminated from the form? If your recommend eliminating an item, please explain your recommendation. Could we provide any additional information that would be useful to the users of this form?

Joseph L. Kull,
Deputy Controller.

BILLING CODE 3110-01-P

[FR Doc. 03-8436 Filed 4-7-03; 8:45 am]

BILLING CODE 3110--01-C